DEPARTMENT OF THE INTERIOR

National Park Service

National Register of Historic Places; Notification of Pending Nominations

Nominations for the following properties being considered for listing in the National Register were received by the National Park Service before November 17, 2001. Pursuant to section 60.13 of 36 CFR part 60 written comments concerning the significance of these properties under the National Register criteria for evaluation may be forwarded by United States Postal Service, to the National Register of Historic Places, National Park Service, 1849 C St. NW., NC400, Washington, DC 20240; by all other carriers, National Register of Historic Places, National Park Service, 800 N. Capitol St. NW., Suite 400, Washington DC 20002; or by fax, 202-343-1836 . Written or faxed comments should be submitted by December 24, 2001.

Carol D. Shull,
Keeper of the National Register Of Historic Places.

DISTRICT OF COLUMBIA

District of Columbia

Clifton Terrace (Apartment Buildings in Washington, DC, MPS), 1308, 1312, 1350 Clifton St., Washington, 01001366

Owl's Nest, 3031 Gates Rd., NW, Washington, 01001365

Trinity Towers (Apartment Buildings in Washington, DC, MPS), 3023 14th St., NW, Washington, 01001367

MARYLAND

Baltimore Independent city

Greater Homeland Historic District, Roughly bounded by Charles St. Homeland Ave., York Rd., and Melrose Ave., Baltimore (Independent City), 01001377

Lake Drive Apartments, 903 Druid Park Lake Dr., Baltimore (Independent City), 01001368

Lauraville Historic District, Rghly bnded by Harford Rd, Herring Run Cr, Cold Spring Ln, Charlton Ave., Halcyon Ave., Grindon Rd, and Echodale Ave., Baltimore (Indepedent City), 01001371

Mount Washington Mill Historic District (Boundary Increase), 1405-1407 Forge Ave., Baltimore (Independent City), 01001376

Northern District Police Station, 3355 Keswick Rd., Baltimore (Independent City), 01001372

Sellers Mansion, 801 N. Arlington St., Baltimore (Independent City), 01001369

Southern District Police Station, 28 E. Ostend St., Baltimore (Independent City), 01001373

Stone Hill Historic District, Pacific, Puritan, Bay, Field and Worth Sts., Baltimore (Independent City), 01001370

Frederick County

Sheffer, Daniel, Farm, 8924A Mt. Tabor Rd., Middletown, 01001375

Howard County

Dorsey Hall, 5100 Dorsey Hall Dr., Columbia, 01001374

MISSOURI

Jackson County

Chambers Building, 25 E. 12th St., Kansas City, 01001379

Phelps County

National Bank of Rolla Building, 718 Pine St., Rolla, 01001380

St. Louis County

Ball—Essen Farmstead Historic District, 749 Babler Park Dr., Wildwood, 01001378

NEW YORK

Albany County

Schoonmaker House, 283 Beaver Dam Rd., Selkirk, 01001396

Delaware County

Hobart Masonic Hall, 6 Cornell Ave., Hobart, 01001399

Greene County

Cleveland, L.E., House, 7818 NY 81, Durham, 01001385

DeWitt, W.F., Hotel, 7803 NY 81, Durham, 01001389

Ford's Store, 7811 NY 81, Durham, 01001395

Jewett Presbyterian Church Complex, Church St., Jewett, 01001382

Osburn, Mrs., House, 7872 NY 81, Durham, 01001390

Pierce, Charles, House, 7846 NY 81, Durham, 01001386

Union Chapel, Mill Rd., Windham, 01001394

Herkimer County

Lalino Stone Arch Bridge, 319 NY 29, Middleville, 01001397

Old City Road Stone Arch Bridge, Old City Rd., Welch Corners, 01001398

Orange County

Dunning House, 633 Ridgebury Rd., Wawayanda, 01001383

Walsh, A., Stone House and Farm Complex (Cornwall MPS), 1570 NY 94, Cornwall, 01001384

Sullivan County

Bennett Family House, 11 Hamilton Ave., Monticello, 01001400

Tompkins County

Second Baptist Society of Ulysses, 1 Congress St., Trumansburg, 01001381

Ulster County

Boice House, 110 Fair St., Kingston, 01001388

Chichester House, 116 Fair St., Kingston, 01001392

Kenyon, William, House, 104 Fair St., Kingston, 01001387

Second Reformed Dutch Church of Kingston, 213-223 Fair St., Kingston, 01001393

OREGON

Lane County

Psi Alpha Chapter, Chi Omega House (Residential Architecture of Eugene, Oregon MPS) 1461 Alder St., Eugene, 01001402

South University Historic District (Residential Architecture of Eugene, Oregon MPS) Roughly bounded by E. 19th, Agate, E 23rd, and Alder Sts., Eugene, 01001401

Malheur County

Blackaby, James Rowley and Mary J., House, 717 SW 2nd St., Ontario, 01001391

[FR Doc. 01-30333 Filed 12-6-01; 8:45 am]

BILLING CODE 4310-70-P